DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period November 21, 2001-December 17, 2001
Firm name | Address | Date Petition accepted | Product
Elessar Enterprises, Inc | P.O. Box 3476, Homer, Alaska 99603 | 11/26/01 | Fresh whole salmon.
H & H Swiss Screw Machine Products Co., Inc | 1478 Chestnut Ave., Hillside, NJ 07205 | 11/26/01 | Precision turned screw machine components, made of primarily of copper, used in cable TV connectors, automotive parts and toggle switches.
Woodbury Box Company, Inc | 301 McIntosh Parkway, Thomaston, GA 30286 | 11/26/01 | Industrial and commercial floor mop frames.
Arnold's Baskets | 11354 South Choctaw Dr., Baton Rouge, LA 70815 | 12/03/01 | Wooden baskets.
Cape Cod Doormats of Distinction, Inc | 2 C Hinckley Road, Hyannis, MA 02601 | 12/03/01 | Hand woven polypropylene doormats.
Kannon Motorcycles, L.L.C. | P.O. Box 761, Ketchum, OK 74349 | 12/03/01 | Motorcycles.
Richmond Industries, Inc | 1 Chris Court, Dayton, NJ 08810 | 12/03/01 | Non-ferrous castings of bronze, aluminum or metal.
Control Cable, Inc | 7261 Ambassador Road, Baltimore, MD 21244 | 12/03/01 | Cable and cable assemblies used in the computer industry.
Best Tool & Manufacturing Company, Inc | 3515 N.E. 33rd Terrace, Kansas City, MO 64117 | 12/04/01 | Plastic blow molds for food containers.
Wayne Engineering Corporation | 701 Performance Drive, Cedar Falls, IA 50613 | 12/04/01 | Garbage truck bodies and truck-mounted cranes.
American Circuit Technology, Inc | 6330 East Hunter Ave., Anaheim, CA 92807 | 12/05/01 | Printed circuit boards.
Tool Components, Inc | 240 East Rosecrans Ave., Gardena, CA 90248 | 12/05/01 | Machined metal products for the semiconductor industry, water filtration equipment, and threaded inserts for various other industries.
Midwest Hanger Company | 4312 Clary Boulevard, Kansas City, MO 64130 | 12/05/01 | Wire clothes hangers.
NRL Associates, Inc | 112 Log Canoe Circle, Stevensville, MD 21666 | 12/07/01 | Metal and plastic parts for the hand tools and medical industries.
Stamper Black Hills Gold Jewelry, Inc | 7201 S. Highway 16, Rapid City, SD 57701 | 12/07/01 | Gold Jewelry.
American Electric Cable Co., Inc | 181 Appleton Street, Holyoke, MA 01040 | 12/12/01 | Insulated and coated wire and cables, wire sets and harnesses and cable assemblies.
NMW, Inc | 428 North Elm, Nowata, OK 74048 | 12/13/01 | Industrial water filters.
E.H. Hall/Westfield Tanning, Inc | 360 Church Street, Westfield, PA 16950 | 12/13/01 | Leather for shoe and boot soles and saddles for the equestrian industry.
Central Expanded Metal, Inc | 1213 North Industrial Road, Chandler, OK 74834 | 12/14/01 | Expanded metal.
Three M Tool and Machine, Inc | 8155 Richardson Road, Walled Lake, MI 48390 | 12/14/01 | Work holding fixtures, cutting tools and dies.
McCammish Manufacturing Co., Inc | 148 Winn Avenue, Winchester, KY 40391 | 12/19/01 | Wood Products, primarily furniture.
Lake Shore Studios, Inc | 4200 Niles Road, St. Joseph, MI 49085 | 12/20/01 | Lamps, lamp shades and frames.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: December 18, 2001.
Anthony J. Meyer,
Coordinator, Trade Adjustment and Technical Assistance.

[FR Doc. 01-31905 Filed 12-27-01; 8:45 am]

BILLING CODE 3510-24-P